ENVIRONMENTAL PROTECTION AGENCY

40 CFR Parts 52 and 81

[Docket # OR-02-003b; FRL-7275-8]

Approval and Promulgation of Air Quality Implementation Plans; State of Oregon; Grants Pass PM-10 Nonattainment Area Redesignation to Attainment and Designation of Areas for Air Quality Planning Purposes

AGENCY: Environmental Protection Agency (EPA).

ACTION: Proposed rule.

SUMMARY: On November 4, 2002, the State of Oregon submitted a PM-10 maintenance plan for Grants Pass to EPA for approval and concurrently requested that EPA redesignate the Grants Pass nonattainment area to attainment for the National Ambient Air Quality Standard (NAAQS) for particulate matter with an aerodynamic diameter of less than ten micrometers (PM-10). In this action, EPA is proposing to approve the maintenance plan and to redesignate the Grants Pass PM-10 nonattainment area to attainment.

DATES: Comments on this proposed rule must be received in writing by November 26, 2003.

ADDRESSES: Comments may be submitted either by mail or electronically. Written comments should be mailed to Steven K. Body, Office of Air Quality, (OAQ-107), EPA Region 10, 1200 Sixth Ave., Seattle, Washington 98101. Electronic comments should be sent either to r10aircomm@epa.gov or to http://www.regulations.gov, which is an alternative method for submitting electronic comments to EPA. To submit comments, please follow the detailed instructions described in the Direct Final Rule, SUPPLEMENTARY INFORMATION section, Part VII, General Information.

Copies of the documents relevant to this action are available for public inspection between 8 a.m. and 4 p.m., Monday through Friday at the following office: United States Environmental Protection Agency, Region 10, Office of Air Quality, 1200 Sixth Ave., Seattle, WA 98101.

FOR FURTHER INFORMATION CONTACT: Steven K. Body, Office of Air Quality, (OAQ-107), EPA Region 10, 1200 Sixth Ave., Seattle, WA 98101, (206) 553-0782, or body.steve@epa.gov.

SUPPLEMENTARY INFORMATION: In the Final Rules section of this Federal Register, EPA is approving the State's redesignation request and State Implementation Plan (SIP) revision, involving the maintenance plan, as a direct final rule without prior proposal because the Agency views the redesignation and SIP revision as noncontroversial and anticipates no adverse comments. A detailed rationale for the approval is set forth in the direct final rule. If no adverse comments are received in response to this proposed rule, no further activity is contemplated in relation to this rule. If EPA receives adverse comments, the direct final rule will be withdrawn and all public comments received will be addressed in a subsequent final rule based on this proposed rule. EPA will not institute a second comment period on this action. Any parties interested in commenting on this action should do so at this time.

For additional information see the direct final rule, of the same title, published in the rules section of this Federal Register.

Dated: October 2, 2003.
Ronald A. Kreizenbeck,
Acting Regional Administrator, Region 10.

[FR Doc. 03-26918 Filed 10-24-03; 8:45 am]

BILLING CODE 6560-50-P